NUCLEAR REGULATORY COMMISSION

10 CFR Chapter 1

RIN 3150-AF61

Electronic Maintenance and Submission of Information Revision, Withdrawal of Direct Final Rule

AGENCY: Nuclear Regulatory Commission.

ACTION: Direct final rule: Withdrawal.

SUMMARY: The Nuclear Regulatory Commission (NRC) is withdrawing a direct final rule that would have amended its rules to clarify when and how licensees and other members of the public might use electronic means to communicate with the agency. The NRC is taking this action because it has received significant adverse comments on the rule. Those comments will now be considered as comments on the identical proposed rule that was published concurrently with the direct final rule. The agency will address those comments in a later final rule.

FOR FURTHER INFORMATION CONTACT: John A. Skoczlas, (301) 415-7186, EIE@nrc.gov; or Brenda J. Shelton, (301) 415-7233, bjs1@nrc.gov.

SUPPLEMENTARY INFORMATION: On September 6, 2002 (67 FR 57084), the NRC published a direct final rule in the Federal Register amending its regulations to clarify when and how the public might communicate with the agency through electronic media. Appended to the rule, for comment, was guidance on how to submit documents to the agency electronically. The direct final rule and the guidance were to have become effective on December 5, 2002. The NRC also concurrently published for comment an identical proposed rule on September 6, 2002 (67 FR 57120).

In the September 6, 2002, notice of the direct final rule, the NRC stated that if any significant adverse comments were received, a timely notice of withdrawal of the direct final rule would be published in the Federal Register, and no rule and guidance would take effect until the comments had been addressed and rule text revised if necessary.

The NRC received significant adverse comments on the rule; therefore, the NRC is withdrawing the direct final rule, and neither it nor the guidance that was appended to it will take effect on December 5, 2002. As stated in the September 6, 2002, notice of the direct final rule, the NRC will now treat the comments as comments on the companion proposed rule, and will address those comments in a later final rule. The NRC will not initiate a second comment period on the rule.

Dated at Rockville, Maryland this 27th day of November, 2002.
For the Nuclear Regulatory Commission.
Annette Vietti-Cook,
Secretary of the Commission.

[FR Doc. 02-30704 Filed 12-3-02; 8:45 am]

BILLING CODE 7590-01-P